DEPARTMENT OF STATE

[Public Notice 6636]

Notice of Closed Meeting of the Cultural Property Advisory Committee

In accordance with the provisions of the Convention on Cultural Property Implementation Act (19 U.S.C. 2601 et seq.) (the Act) there will be a meeting of the Cultural Property Advisory Committee on (Committee) Monday, July 27 and on Tuesday, July 28 at the U.S. Department of State. Pursuant to section 2605(h) of the Act and 5 U.S.C. 552b(c)(9)(B), the meeting shall be closed to the public.

At this meeting, the Committee will carry out its interim review function with respect to the Memorandum of Understanding Between the Government of the United States of America and the Government of the Republic of Colombia Concerning the Imposition of Import Restrictions on Archaeological Material from the Pre-Columbian Cultures and Certain Ecclesiastical Material from the Colonial Period of Colombia concluded on March 15, 2006; and, the Memorandum of Understanding Between the Government of the United States of America and the Government of the Republic of Italy Concerning the Imposition of Import Restrictions on Archaeological Material Representing the Pre-Classical, Classical and Imperial Roman Periods of Italy, concluded on January 19, 2001, and extended in 2006. Pursuant to the Act, the Committee will conduct an interim review of the effectiveness of the MOUs and will focus its attention on Article II of each MOU. This is not a meeting to consider extension of the MOUs. Such a meeting will be scheduled and announced in the future and will include a public session.

The Committee's responsibilities are carried out in accordance with provisions of the Act. Related information may be found at http://exchanges.state.gov/culprop.

Dated: June 19, 2009.
C. Miller Crouch,
Acting Assistant Secretary for Educational and Cultural Affairs, Department of State.

[FR Doc. E9-16058 Filed 7-7-09; 8:45 am]

BILLING CODE 4710-05-P